DEPARTMENT OF COMMERCE

Foreign-Trade Zones Board

[B-77-2021]

Notification of Proposed Production Activity; Lam Research Corporation; Foreign-Trade Zone (FTZ) 18—San Jose, California; (Wafer Fabrication Equipment, Subassemblies, and Related Parts); Fremont, Livermore, Newark, Tracy and Hayward, California

Lam Research Corporation (Lam) submitted a notification of proposed production activity to the FTZ Board (the Board) for its facilities in Fremont, Livermore, Newark, Tracy and Hayward, California within Subzone 18F. The notification conforming to the requirements of the Board's regulations (15 CFR 400.22) was received on November 10, 2021.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished products and materials/components would be added to the production authority that the Board previously approved for the operation, as reflected on the Board's website.

The proposed finished products include: Chemical/mechanical planarization and other wafer surface modification equipment; various tools and process modules (for the chemical vapor or physical vapor deposition, or plasma dry etch, of materials on a wafer; for the plasma etch of the bevel edge of a wafer to remove yield-limiting residues and defects of a wafers surface; for the stripping of photoresist material on a wafer; for the ultraviolet thermal processing of a wafer surface; for wafer cleaning between chip-processing steps to remove yield-limiting residues and defects of a wafer surface) for semi-conductor production; conductor material deposition process modules and machines for wafer packaging; transport modules; wafer transport robots; machines for the production of semiconductors, namely etch systems installation, maintenance, repair, retrofit, and upgrade kits; machines for manufacturing masks and assembling electronic circuits installation, maintenance, repair, retrofit, and upgrade kits; installation, maintenance, repair, retrofit, and upgrade kits (for semiconductor equipment and parts and assemblies of semiconductor equipment; chemical/mechanical planarization and other wafer surface modification equipment; transport modules; wafer transport robots); various tools and process modules (for the chemical vapor or physical vapor deposition, or plasma dry etch, of materials on a wafer; for the plasma etch of the bevel edge of a wafer to remove yield-limiting residues and defects of a wafer surface; for the stripping of photoresist material on a wafer; for the ultraviolet thermal processing of a wafer surface; for wafer cleaning between chip-processing steps to remove yield-limiting residues and defects of a wafer surface) for semi-conductor production installation, maintenance, repair, retrofit, and upgrade kits; and, conductor material deposition process modules and machines for wafer packaging installation, maintenance, repair, retrofit, and upgrade kits (duty rate is duty-free).

The proposed foreign-status materials and components include: Synthetic petroleum-based hydrocarbon greases and similar synthetic oils greases and similar synthetic oils; various sealants and adhesives (polymer-based sealants, glues, and pastes; polyvinyl chloride (PVC)-based sealants, glues, pastes, and cements; silicon-based sealants, glues, pastes, and cements; polyglycol dimethacrylate sealants, glues, pastes, and cements) used in the production and installation of semiconductor manufacturing equipment; thermal transfer print ribbon film; anti-static polyethylene bags used as packaging material; clear nylon heat sealed bags; various components used for clean room environments (disposable gloves made of nitrile synthetic rubber; tri-polymer blend non-disposable gloves; non-textile, non-silicon anti-static tissues and cleaning wipes with special surfactants); clear acetate face shields and protective caps; high-density polyethylene hard hats and protective caps; fused silica rods and pipes; linear acting engine and motor components (air cylinders; steel, aluminum, alumina ceramic, and/or plastic pins, pin lifters, and shims); polypropylene, polyetheretherketone steel, and/or polycarbonate valve covers; stainless steel, polyvinylidene difluoride (PVDF), and/or N-Formylmethionine valve adapters; polytetrafluoroethylene (PTFE), PVDF, polypropylene, PVC, plastic, and/or steel valve balls; aluminum, PVC, and/or steel valve panels and plates; aluminum, perfluoroelastomer polymer, and/or PTFE based Teflon™ composition valve doors; steel, aluminum, alumina ceramic, and/or plastic valve pins; fluorocarbon rubber, stainless steel, aluminum, morphous low modulus rubber, and/or perfluoroelastomer polymer bodies, gate, transport and loadlock valves, and valve parts specifically designed for semiconductor applications; weldments tubing of semiconductor manufacturing equipment tools; fluoroelastomer, aluminum, steel, plastic, and/or fluoropolymer elastomer and synthetic rubber compound rings, arms, cups, holders, plates, adapters, panels, pedestals, and other inner components designed specifically for semiconductor manufacturing equipment tools; semiconductor manufacturing equipment sub-assemblies; structural elements that may be composed of other metals, plastic or aluminum enclosures or assemblies with threaded inserts, screws, dowel pins, springs, and connectors for housings, enclosures, covers, and skins for semiconductor manufacturing equipment; air and exhaust ducts, end effectors, media dispensers designed specifically for semiconductor manufacturing equipment; alkaline batteries; rod-type sheathed cartridge heaters used to heat gases or liquids in distribution piping for semiconductor manufacturing equipment; tube holders and mountings of polyvinylidene fluoride, PVDF, other metals, or plastic materials; incandescent lamps and bulbs; solid state devices consisting of a light-emitting diode (LED) and photo diode; cables for voltage; and, focal lenses used for factory inspections (duty rate ranges from duty-free to 14%). The request indicates that certain materials/components are subject to duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is January 3, 2022.

A copy of the notification will be available for public inspection in the “Online FTZ Information System” section of the Board's website.

For further information, contact Juanita Chen at juanita.chen@trade.gov.

Dated: November 17, 2021.
Camille R. Evans,
Acting Executive Secretary.

[FR Doc. 2021-25458 Filed 11-22-21; 8:45 am]

BILLING CODE 3510-DS-P